DEPARTMENT OF TRANSPORTATION

Federal Aviation Administration

14 CFR Part 39

[Docket No. FAA-2009-0004; Directorate Identifier 2008-NM-160-AD; Amendment 39-15995; AD 2009-17-04]

RIN 2120-AA64

Airworthiness Directives; Airbus Model A318, A319, A320, and A321 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

One case of elevator servo-control disconnection has been experienced on an aircraft of the A320 family. Failure occurred at the servo-control rod eye-end. Further to this finding, additional inspections have revealed cracking at the same location on a number of other servo-control rod eye-ends. In one case, both actuators of the same elevator surface were affected. * * *

A dual servo-control disconnection on the same elevator could result in an uncontrolled surface, the elevator surface being neither actuated nor damped, which could lead to reduced control of the aircraft.

* * * * *

We are issuing this AD to require actions to correct the unsafe condition on these products.

DATES: This AD becomes effective September 22, 2009.

The Director of the Federal Register approved the incorporation by reference of a certain publication listed in this AD as of September 22, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on January 13, 2009 (74 FR 1646). That NPRM proposed to correct an unsafe condition for the specified products. The MCAI states:

One case of elevator servo-control disconnection has been experienced on an aircraft of the A320 family. Failure occurred at the servo-control rod eye-end. Further to this finding, additional inspections have revealed cracking at the same location on a number of other servo-control rod eye-ends. In one case, both actuators of the same elevator surface were affected. The root cause of the cracking has not yet been determined and tests are ongoing. It is anticipated that further actions will be required.

A dual servo-control disconnection on the same elevator could result in an uncontrolled surface, the elevator surface being neither actuated nor damped, which could lead to reduced control of the aircraft.

For the reason described above, this AD requires a one-time inspection [for cracking] of the elevator servo-control rod eye-ends and, in case of findings, the accomplishment of corrective actions.

The corrective actions include replacing any cracked rod eye-end with a serviceable unit and re-adjusting the elevator servo-control. You may obtain further information by examining the MCAI in the AD docket.

Explanation of Revised Service Information

Airbus has issued All Operators Telex (AOT) A320-27A1186, Revision 04, dated April 3, 2009. (We referred to Airbus AOT A320-27A1186, dated June 23, 2008, in the NPRM as the appropriate source of service information for doing the proposed actions.) Airbus has also issued AOT A320-27A1186, Revision 01, dated August 11, 2008; Revision 02, dated March 30, 2009; and Revision 03, dated April 1, 2009. Airbus issued Revision 01, Revision 03, and Revision 04 of the AOT to include minor improvements in the procedures. No additional work is necessary for airplanes on which Airbus AOT A320-27A1186, dated June 23, 2008; Revision 01, dated August 11, 2008; Revision 02, dated March 30, 2009; or Revision 03, dated April 1, 2009; has been accomplished before the effective date of this AD. We have revised paragraphs (f)(1) through (f)(5), and paragraph (h) of this AD, to include Airbus AOT A320-27A1186, Revision 04, dated April 3, 2009. We have also added a new paragraph (f)(6) to this AD to include credit for accomplishing the actions before the effective date of this AD using the previously issued AOTs.

Airbus AOT A320-27A1186, Revision 02, dated March 30, 2009, reduces the minimum threshold for inspections from 10,000 to 2,500 flight cycles, based on in service findings. Due to the criticality of the unsafe condition, we have determined that this AD must be issued without further delay; however, after this AD is published we might consider additional rulemaking to address the reduced compliance time.

Comments

We gave the public the opportunity to participate in developing this AD. We considered the comments received.

Request To Revise Work Instructions

Northwest Airlines (NWA) asks that we require Airbus to rewrite the work instructions specified in Airbus AOT A320-27A1186, dated June 23, 2008. NWA states that the work steps are not written in a manner that is easily transferable to work cards, such as would normally be provided with a service bulletin. NWA adds that most of the work steps are provided in multiple references that must be extracted and properly sequenced so that the intent of the AOT can be accomplished.

We acknowledge NWA's concern. We note that Airbus has issued revisions to AOT A320-27A1186 as described above under “Explanation of Revised Service Information.” However, we disagree that Airbus should revise AOT A320-27A1186 again because we have determined that actions done in accordance with Airbus AOT A320-27A1186, dated June 23, 2008; Revision 01, dated August 11, 2008; Revision 02, dated March 30, 2009; and Revision 03, dated April 1, 2009; or Revision 04, dated April 3, 2009; are adequate to address the identified unsafe condition. Therefore, we have made no change to the AD in this regard.

Request To Remove Reporting Requirement

NWA also asks that the reporting requirement not be included. NWA states that it sees the value in reporting confirmed findings, but if there are no findings the reporting requirement offers no improvement in safety.

We disagree with NWA. We have determined that reporting both positive and negative inspection findings will enable the manufacturer to obtain better insight into the prevalence of the cracking. Reporting all findings will allow the manufacturer to conduct statistical analyses on a continuous basis rather than waiting for the compliance time to expire, which may be several years for certain airplanes. Access to all findings will help the manufacturer to develop final action to address the identified unsafe condition in an expeditious manner. We have made no change to the AD in this regard.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a note within the AD.

Costs of Compliance

We estimate that this AD will affect 730 products of U.S. registry. We also estimate that it will take about 13 work-hours per product to comply with the basic requirements of this AD. The average labor rate is $80 per work-hour. Based on these figures, we estimate the cost of this AD to the U.S. operators to be $759,200, or $1,040 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-17-04 Airbus: Amendment 39-15995. Docket No. FAA-2009-0004; Directorate Identifier 2008-NM-160-AD.

Effective Date

(a) This airworthiness directive (AD) becomes effective September 22, 2009.

Affected ADs

(b) None.

Applicability

(c) This AD applies to Airbus Model A318-111, -112, -121, and -122; A319-111, -112, -113, -114, -115, -131, -132, and -133; A320-111, -211, -212, -214, -231, -232, -233; and A321-111, -112, -131, -211, -212, -213, -231, and -232 series airplanes; certificated in any category; all manufacturer serial numbers.

Subject

(d) Air Transport Association (ATA) of America Code 27: Flight controls.

Reason

(e) The mandatory continuing airworthiness information (MCAI) states:

One case of elevator servo-control disconnection has been experienced on an aircraft of the A320 family. Failure occurred at the servo-control rod eye-end. Further to this finding, additional inspections have revealed cracking at the same location on a number of other servo-control rod eye-ends. In one case, both actuators of the same elevator surface were affected. The root cause of the cracking has not yet been determined and tests are ongoing. It is anticipated that further actions will be required.

A dual servo-control disconnection on the same elevator could result in an uncontrolled surface, the elevator surface being neither actuated nor damped, which could lead to reduced control of the aircraft.

For the reason described above, this AD requires a one-time inspection [for cracking] of the elevator servo-control rod eye-ends and, in case of findings, the accomplishment of corrective actions.

The corrective actions include replacing any cracked rod eye-end with a serviceable unit and re-adjusting the elevator servo-control.

Actions and Compliance

(f) Unless already done, after the accumulation of 10,000 total flight cycles since first flight of the airplane, do the following actions.

(1) Not before the accumulation of 10,000 total flight cycles since first flight of the airplane, and at the later of the times specified in paragraphs (f)(1)(i) and (f)(1)(ii) of this AD: Inspect both the left-hand and right-hand inboard elevator servo-control rod eye-ends for cracking, in accordance with the instructions of Airbus All Operators Telex (AOT) A320-27A1186, Revision 04, dated April 3, 2009.

(i) Within 1,500 flight cycles or 200 days after the effective date of this AD, whichever occurs first.

(ii) Within 1,500 flight cycles or 200 days after accumulating 10,000 total flight cycles since first flight of the airplane, whichever occurs first.

(2) Not before the accumulation of 10,000 total flight cycles since first flight of the airplane, and at the later of the times specified in paragraphs (f)(2)(i) and (f)(2)(ii) of this AD: Inspect both the left-hand and right-hand outboard elevator servo-control rod eye-ends for cracking, in accordance with the instructions of Airbus AOT A320-27A1186, Revision 04, dated April 3, 2009.

(i) Within 3,000 flight cycles or 400 days after the effective date of this AD, whichever occurs first.

(ii) Within 3,000 flight cycles or 400 days after accumulating 10,000 total flight cycles since first flight of the airplane, whichever occurs first.

(3) If any cracking is found during any inspection required by this AD, before further flight, accomplish all applicable corrective actions in accordance with the instructions of Airbus AOT A320-27A1186, Revision 04, dated April 3, 2009.

(4) Submit a report of the findings of the inspection required by paragraphs (f)(1) and (f)(2) of this AD to Airbus in accordance with the instructions of Airbus AOT A320-27A1186, Revision 04, dated April 3, 2009; at the applicable time specified in paragraph (f)(4)(i) or (f)(4)(ii) of this AD.

(i) If the inspection was done after the effective date of this AD: Submit the report within 40 days after the inspection.

(ii) If the inspection was done before the effective date of this AD: Submit the report within 40 days after the effective date of this AD.

(5) As of the effective date of this AD, no person may install on any airplane an elevator servo-control rod eye-end unless it has been inspected in accordance with the instructions of Airbus AOT A320-27A1186, Revision 04, dated April 3, 2009.

(6) Actions done before the effective date of this AD in accordance with Airbus AOT A320-27A1186, dated June 23, 2008; Revision 01, dated August 11, 2008; Revision 02, dated March 30, 2009; or Revision 03, dated April 1, 2009; are acceptable for compliance with the corresponding actions required by this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to Attn: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0149, dated August 5, 2008; and Airbus AOT A320-27A1186, Revision 04, dated April 3, 2009; for related information.

Material Incorporated by Reference

(i) You must use Airbus All Operators Telex A320-27A1186, Revision 04, dated April 3, 2009, to do the actions required by this AD, unless the AD specifies otherwise. (The document number and issue date of Airbus AOT A320-27A1186, Revision 04, dated April 3, 2009, are specified only on the first page of the AOT.)

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 7, 2009.
Stephen P. Boyd,
Acting Manager, Transport Airplane Directorate, Aircraft Certification Service.

[FR Doc. E9-19636 Filed 8-17-09; 8:45 am]

BILLING CODE 4910-13-P